FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
July 1, 2017 Through July 31, 2017
07/03/2017
20171409 | G | Quest Diagnostics Incorporated; Med Fusion, LLC; Quest Diagnostics Incorporated.
20171459 | G | Synnex Corporation; Datatec Limited; Synnex Corporation.
20171460 | G | Datatec Limited; Synnex Corporation; Datatec Limited.
20171483 | G | Warburg Pincus Private Equity XII, L.P.; Odyssey Investment Partners Fund IV, L.P.; Warburg Pincus Private Equity XII, L.P.
07/05/2017
20171470 | G | Caerus Operating, LLC; Encana Corporation; Caerus Operating, LLC.
20171480 | G | Enerflex Ltd.; Mesa Compression, LLC; Enerflex Ltd.
07/06/2017
20171464 | G | Donuts Inc.; Rightside Group Ltd.; Donuts Inc.
07/10/2017
20171506 | G | Vista Foundation Fund III, L.P.; Francisco Partners III (Domestic AIV), L.P.; Vista Foundation Fund III, L.P.
20171508 | G | Gryphon Partners IV, L.P.; ACOF IV CWC AIV Blocked Feeder, L.P.; Gryphon Partners IV, L.P.
20171516 | G | Softbank Group Corp.; Alphabet Inc.; Softbank Group Corp.
20171524 | G | Vista Foundation Fund III, L.P.; Upserve, Inc.; Vista Foundation Fund III, L.P.
20171533 | G | 2297984 Ontario Limited; TEGNA Inc.; 2297984 Ontario Limited.
20171538 | G | Marquee Brands Partners, LP; BCBG Max Azria Global Holdings, LLC; Marquee Brands Partners, LP.
07/11/2017
20171468 | G | John C. Malone; Liberty Interactive Corporation; John C. Malone.
20171504 | G | Sonoco Products Company; Sanfilippo Family SD Trust; Sonoco Products Company.
20171531 | G | Tallgrass Equity, LLC; Kinder Morgan, Inc.; Tallgrass Equity, LLC.
07/12/2017
20171462 | G | JANA Nirvana Offshore Fund, Ltd.; Zimmer Biomet Holdings, Inc.; JANA Nirvana Offshore Fund, Ltd.
20171474 | G | William P. Foley, II; Black Knight Holdco Corp.; William P. Foley, II.
20171475 | G | Thomas H. Lee Parallel Fund VI, L.P.; Black Knight Holdco Corp.; Thomas H. Lee Parallel Fund VI, L.P.
20171476 | G | Thomas H. Lee Equity Fund VI, L.P.; Black Knight Holdco Corp.; Thomas H. Lee Equity Fund VI, L.P.
20171477 | G | THL Equity Fund VI Investors (BKFS), L.P.; Black Knight Holdco Corp.; THL Equity Fund VI Investors (BKFS), L.P.
20171478 | G | THL Equity Fund VI Investors (BKFS) II, L.P.; Black Knight Holdco Corp.; THL Equity Fund VI Investors (BKFS) II, L.P.
20171497 | G | Desmarais Family Residuary Trust; Personal Capital Corporation; Desmarais Family Residuary Trust.
20171505 | G | Asia-Germany Industry 4.0 Promotion Cross-Border Fund I L.P.; Olympus Growth Fund V, L.P.; Asia-Germany Industry 4.0 Promotion Cross-Border Fund I L.P.
20171518 | G | AECOM; Shimmick Construction Company, Inc.; AECOM.
20171532 | G | Xinghai Zhang; Ronald Perelman; Xinghai Zhang.
20171535 | G | Legrand S.A.; PGPC-Milestone LLC; Legrand S.A.
07/13/2017
20171195 | G | IAC/InterActiveCorp; Angie's List, Inc.; IAC/InterActiveCorp.
20171443 | G | Astra-LOGIX Holdings, LLC; Gores Capital Partners III, L.P.; Astra-LOGIX Holdings, LLC.
20171444 | G | WAFRA Real Assets & Infrastructure Fund I, L.P.; Gores Capital Partners III, L.P.; WAFRA Real Assets & Infrastructure Fund I, L.P.
20171503 | G | Occidental Petroleum Corporation; Hess Corporation; Occidental Petroleum Corporation.
20171529 | G | Centerbridge Capital Partners III, L.P.; Clearlake Capital Partners IV, L.P.; Centerbridge Capital Partners III, L.P.
07/14/2017
20171224 | G | Cisco Systems, Inc.; Viptela, Inc.; Cisco Systems, Inc.
20171525 | G | Unilever N.V.; Carisa Janes Levitt; Unilever N.V.
20171534 | G | True Wind Capital, L.P.; ARI Network Services, Inc.; True Wind Capital, L.P.
20171539 | G | AK Steel Holding Corporation; PPHC Holdings, LLC; AK Steel Holding Corporation.
20171542 | G | Massimo Scagliarini; Industrial Opportunity Partners, L.P.; Massimo Scagliarini.
20171548 | G | Arsenal Capital Partners IV, LP; PolyOne Corporation; Arsenal Capital Partners IV, LP.
20171550 | G | Enel S.p.A.; EnerNOC, Inc.; Enel S.p.A.
20171554 | G | The Home Depot, Inc.; Compact Power Equipment, Inc.; The Home Depot, Inc.
20171558 | G | SoftBank Vision Fund L.P.; Michael G. Rubin; SoftBank Vision Fund L.P.
20171560 | G | Mason Wells Buyout Fund IV, LP; King Juice Company, Inc.; Mason Wells Buyout Fund IV, LP.
07/17/2017
20171487 | G | Glenview Capital Partners (Cayman), Ltd.; The Dow Chemical Company; Glenview Capital Partners (Cayman), Ltd.
20171488 | G | Larry Robbins; The Dow Chemical Company; Larry Robbins.
20171490 | G | Glenview Institutional Partners, L.P.; The Dow Chemical Company; Glenview Institutional Partners, L.P.
20171491 | G | Glenview Offshore Opportunity Fund, Ltd.; The Dow Chemical Company; Glenview Offshore Opportunity Fund, Ltd.
20171492 | G | GCM Equity Partners LP; The Dow Chemical Company; GCM Equity Partners LP.
20171553 | G | Warburg Pincus Private Equity XII, L.P.; Sterling Investment Partners II, L.P.; Warburg Pincus Private Equity XII, L.P.
07/18/2017
20171498 | G | Fairholme Funds, Inc.; The St. Joe Company; Fairholme Funds, Inc.
20171527 | G | Letterone Investment Holdings S.A.; Parexel International Corporation; Letterone Investment Holdings S.A.
20171536 | G | EQT Corporation; Rice Energy Inc.; EQT Corporation.
20171540 | G | Macquarie Group Limited; Cargill Incorporated; Macquarie Group Limited.
20171563 | G | Odyssey Investment Partners Fund V, L.P.; CPI International Holding LLC; Odyssey Investment Partners Fund V, L.P.
07/19/2017
20171522 | G | Third Point Partners Qualified L.P.; Nestle S.A.; Third Point Partners Qualified L.P.
20171566 | G | Olympus Growth Fund V, L.P.; Southern Imperial, Inc., Employee Stock Ownership Trust; Olympus Growth Fund V, L.P.
07/20/2017
20170539 | S | Baxter International Inc.; Mr. Arjun Handa; Baxter International Inc.
20171541 | G | ScanSource, Inc.; Kent B. Stryker; ScanSource, Inc.
20171551 | G | Teekay Corporation; Tanker Investments Ltd.; Teekay Corporation.
20171561 | G | TPG Growth III DE AIV II, L.P.; Old Ironside Energy Fund II-A, LP; TPG Growth III DE AIV II, L.P.
20171562 | G | Littlejohn Fund V, L.P.; H.I.G. BBC Holdings, LLC; Littlejohn Fund V, L.P.
07/21/2017
20170913 | S | Vertex Pharmaceuticals Incorporated; Concert Pharmaceuticals, Inc.; Vertex Pharmaceuticals Incorporated.
20171559 | G | CP VI Raptor Holdings, L.P.; Snow Phipps II AIV, L.P.; CP VI Raptor Holdings, L.P.
20171569 | G | Trilantic Capital Partners V (N.A.) L.P.; BP Ortholite LLC; Trilantic Capital Partners V (N.A.) L.P.
20171570 | G | Logitech International S.A.; Mill Road Capital II, L.P.; Logitech International S.A.
20171573 | G | Kyocera Corporation; Wynnchurch Capital Partners II, L.P.; Kyocera Corporation.
20171574 | G | WPH Holdings II, LLC ; Olympus Growth Fund V, L.P. ; WPH Holdings II, LLC
20171575 | G | Snow Phipps III, L.P.; Industrial Growth Partners IV, L.P.; Snow Phipps III, L.P.
20171576 | G | DS Smith plc; Merpas Co. S.a.r.l.; DS Smith plc.
20171583 | G | Letterone Investment Holdings S.A.; Mill Luxembourg I S.a.r.l.; Letterone Investment Holdings S.A.
20171589 | G | 3i Group plc; Century Park Capital Partners II, L.P.; 3i Group plc.
07/24/2017
20171404 | G | CoreLogic, Inc.; Serent Capital II, L.P.; CoreLogic, Inc.
20171544 | G | JANA Nirvana Offshore Fund, Ltd.; EQT Corporation; JANA Nirvana Offshore Fund, Ltd.
20171545 | G | JANA Partners Qualified, L.P.; EQT Corporation; JANA Partners Qualified, L.P.
20171596 | G | Solar Capital Ltd.; NEF Holdings, LLC; Solar Capital Ltd.
07/25/2017
20171519 | G | GTT Communications, Inc.; F. Francis Najafi; GTT Communications, Inc.
20171547 | G | Vistra Energy Corp.; Koch Industries, Inc.; Vistra Energy Corp.
20171585 | G | USI Advantage Corp.; Wells Fargo & Company; USI Advantage Corp.
20171586 | G | Monomoy Capital Partners III, L.P.; West Marine, Inc.; Monomoy Capital Partners III, L.P.
20171590 | G | CK William UK Holdings Ltd; Granger Energy Holdings, LLC; CK William UK Holdings Ltd.
20171597 | G | Verisk Analytics, Inc.; Primus Capital Fund VI, LP; Verisk Analytics, Inc.
07/26/2017
20171287 | G | Motorola Solutions, Inc.; Kodiak Networks, Inc.; Motorola Solutions, Inc.
20171523 | G | Cedars-Sinai Health System; Torrance Health Association; Cedars-Sinai Health System.
20171579 | G | Sycamore Partners II, L.P.; Staples, Inc.; Sycamore Partners II, L.P.
20171581 | G | ACOF V DP-A AIV LP; DMG Practice Management Solutions LLC; ACOF V DP-A AIV LP.
07/27/2017
20171593 | G | H.I.G. Middle Market LBO Fund II, L.P.; Charles K. Narang; H.I.G. Middle Market LBO Fund II, L.P.
20171595 | G | EQT VII (No. 1) Limited Partnership; Arsenal MBDD Holding, LP; EQT VII (No. 1) Limited Partnership.
07/28/2017
20171599 | G | WCF APF Ventures LLC; Trident V, L.P.; WCF APF Ventures LLC.
20171600 | G | MasterCard Incorporated; Akli Adjaoute; MasterCard Incorporated.
20171614 | G | TowerBrook Investors IV (Onshore), L.P.; Aernnova Aerospace Corporation, S.A.; TowerBrook Investors IV (Onshore), L.P.
20171620 | G | AP VIII Constellation Holdings, L.P.; ClubCorp Holdings, Inc.; AP VIII Constellation Holdings, L.P.
20171623 | G | MTS Health Investors IV, L.P.; Private Equity Holdings Fund LP; MTS Health Investors IV, L.P.
20171624 | G | Larry Robbins; DowDuPont Inc.; Larry Robbins.
20171625 | G | Glenview Offshore Opportunity Fund, Ltd.; DowDuPont Inc.; Glenview Offshore Opportunity Fund, Ltd.
20171627 | G | Glenview Institutional Partners, L.P.; DowDuPont Inc.; Glenview Institutional Partners, L.P.
20171628 | G | Glenview Capital Partners (Cayman), Ltd.; DowDuPont Inc.; Glenview Capital Partners (Cayman), Ltd.
20171629 | G | GCM Equity Partners LP; DowDuPont Inc.; GCM Equity Partners LP.
20171637 | G | Church & Dwight Co., Inc.; Pik Holdings, Inc.; Church & Dwight Co., Inc.
07/31/2017
20171349 | G | Rayonier Advanced Materials Inc.; Tembec Inc.; Rayonier Advanced Materials Inc.
20171571 | G | Brynwood Partners VII L.P.; Dorothy M. Lenore; Brynwood Partners VII L.P.
20171578 | G | Reyes Holdings, L.L.C.; The Coca-Cola Company; Reyes Holdings, L.L.C.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2017-19426 Filed 9-12-17; 8:45 am]

BILLING CODE 6750-01-P